DEPARTMENT OF AGRICULTURE

Forest Service

Forest Resource Coordinating Committee

AGENCY: Forest Service, USDA.

ACTION: Notice of Cancellation.

SUMMARY: The U.S. Department of Agriculture, Forest Service was required to cancel the October 17-18, 2013 meeting of the Forest Resource Coordinating Committee due to the Government partial shutdown which began October 1, 2013. The Notice of Meeting for the October 17-18, 2013 meeting was published in the Federal Register, Volume 78, Number 180, Tuesday, September 17, 2013, Page 57128.

FOR FURTHER INFORMATION CONTACT: Maya Solomon, Forest Resource Coordinating Committee Program Coordinator; by phone at (202) 205-1376, or Ted Beauvais, Designated Federal Officer; by phone at (202) 205-1190. Individuals who use telecommunication devices for the deaf (TDD) may call the Federal Information Relay Service (FIRS) at 1-800-877-8339 between 8:00 a.m. and 8:00 p.m., Eastern Standard Time, Monday through Friday.

Dated: November 22, 2013.
Paul Ries,
Associate Deputy Chief, State and Private Forestry.

[FR Doc. 2013-29240 Filed 12-6-13; 8:45 am]

BILLING CODE 3410-11-P